DEPARTMENT OF HEALTH AND HUMAN SERVICES

National Institutes of Health

Center for Scientific Review; Amended Notice of Meeting

Notice is hereby given of a change in the meeting of the Center for Scientific Review Special Emphasis Panel, February 20, 2002, 2:00 PM to February 20, 2002, 3:30 PM, Holiday Inn Georgetown, 2101 Wisconsin Avenue, NW, Washington, DC, 20007 which was published in the Federal Register on February 7, 2002, 67 FR 5841-5842.

The meeting has been changed to a telephone conference call to be held March 27, 2002, from 3:00 PM to 4:00 PM. The meeting is closed to the public.

Dated: March 21, 2002.
LaVerne Y. Stringfield,
Director, Office of Federal Advisory Committee Policy.

[FR Doc. 02-7395 Filed 3-27-02; 8:45 am]

BILLING CODE 4140-01-M